DEPARTMENT OF ENERGY

Western Area Power Administration

Parker-Davis Project—Rate Order No. WAPA-131

AGENCY: Western Area Power Administration, DOE.

ACTION: Notice of Order Extending Firm Electric Service and Transmission Service Rate Methodologies.

SUMMARY: This action is to extend the existing Parker-Davis Project (P-DP) Firm Electric Service Rate Schedule PD-F6 and the Transmission Service Rate Schedules PD-FT6, PD-FCT6, and PD-NFT6 through September 30, 2008. Without this action, the existing Firm Electric Service and Transmission Services rates will expire September 30, 2006, and no rates will be in effect for these services. These Firm Electric Service and Transmission Service Schedules contain formula rates recalculated from yearly updated financial and load data.

FOR FURTHER INFORMATION CONTACT: Mr. Jack Murray, Rates Team Lead, Desert Southwest Customer Service Region, Western Area Power Administration, P.O. Box 6457, Phoenix, AZ 85005-6457, (602) 605-2442, or e-mail jmurray@wapa.gov.

SUPPLEMENTARY INFORMATION: By Delegation Order No. 00-037.00, effective December 6, 2001, the Secretary of Energy delegated: (1) The authority to develop power and transmission rates to Western's Administrator; (2) the authority to confirm, approve, and place such rates into effect on an interim basis to the Deputy Secretary of Energy, and (3) the authority to confirm, approve, and place into effect on a final basis, to remand, or to disapprove such rates to the Federal Energy Regulatory Commission (Commission).

This action is to further extend the existing Parker-Davis Project Rate Order No. WAPA-75, that was originally approved for 5 years, beginning November 1, 1997, through September 30, 2002. See FERC Docket No. EF98-5041-000, 82 FERC Par. 62, 164 (March 10, 1998).

Rate Order WAPA-98, approved by the Secretary of Energy on September 13, 2002 (67 FR 60655, September 26, 2002), extended WAPA-75 through September 30, 2004. Rate Order WAPA-113, approved by the Deputy Secretary on September 2, 2004 (69 FR 55429, September 14, 2004), extended WAPA-75 through September 30, 2006.

Western is currently conducting a formal re-marketing process for the Parker-Davis Project. One of the effects of this re-marketing effort is an increase in firm electric service capacity that will be available October 1, 2008, creating a larger resource pool and making additional capacity and energy available to new contractors. Western is seeking this extension to provide adequate time to consider the effect of the additional capacity on the rates and to consider the input of the public including the additional contractors. Because the current rate methodologies contain formula rates recalculated from yearly updated financial and load data and Western seeks to involve new contractors in the rate process, Western proposes to extend the current rate schedules under 10 CFR part 903. Rate Order WAPA-75, previously extended under Rate Order No. WAPA-98 and Rate Order No. WAPA-113, will be further extended under Rate Order No. WAPA-131.

Western's existing formula Transmission Service Rate Schedules and Electric Service Rate Schedules, recalculated annually, will recover sufficient project expenses (including interest) and capital requirements through September 30, 2008.

Following review of Western's proposal within the DOE, I hereby approve Rate Order No. WAPA-131 which extends the existing P-DP Firm Electric Service and Transmission Service Rates through September 30, 2008.

Dated: September 22, 2006.
Clay Sell,
Deputy Secretary.

Department of Energy, Deputy Secretary

In the Matter of: Western Area Power Administration Rate Extension for the Parker-Davis Project Firm Electric Service and Transmission Service Rate Methodologies; Order Confirming and Approving an Extension of the Parker-Davis Project Firm Electric Service and Transmission Service Rate Methodologies

These Firm Electric Service and Transmission Service Rate Methodologies were established following section 302 of the Department of Energy (DOE) Organization Act (42 U.S.C. 7152). This Act transferred to and vested in the Secretary of Energy the power marketing functions of the Secretary of the Department of the Interior and the Bureau of Reclamation under the Reclamation Act of 1902 (ch. 1093, 32 Stat. 388), as amended and supplemented by subsequent laws, particularly section 9(c) of the Reclamation Project Act of 1939 (43 U.S.C. 485h(c)), and other Acts that specifically apply to the project system involved.

By Delegation Order No. 00-037.00, effective December 6, 2001, the Secretary of Energy delegated: (1) The authority to develop power and transmission rates to the Administrator of the Western Area Power Administration (Western); (2) the authority to confirm, approve, and place such rates into effect on an interim basis to the Deputy Secretary of Energy; and (3) the authority to confirm, approve, and place into effect on a final basis, to remand, or to disapprove such rates to the Federal Energy Regulatory Commission.

Background

This action is to further extend the existing Parker-Davis Project Rate Order No. WAPA-75 that was originally approved for 5 years, beginning November 1, 1997, through September 30, 2002. See FERC Docket No. EF98-5041-000, 82 FERC Par. 62,164 (March 10, 1998).

Rate Order No. WAPA-98, approved by the Secretary of Energy on September 13, 2002 (67 FR 60655, September 26, 2002), extended WAPA-75 through September 30, 2004. Rate Order WAPA-113, approved by the Deputy Secretary on September 2, 2004 (69 FR 55429, September 14, 2004), extended WAPA-75 through September 30, 2006.

Discussion

Western is currently conducting a formal re-marketing process for the Parker-Davis Project, which will increase the firm electric service capacity that will be available October 1, 2008, creating a larger resource pool and making additional capacity and energy available to new contractors. Western seeks this extension to allow adequate time to consider the effect of additional firm electric service capacity on the rates and to consider the input of the public including the additional contractors. Western proposes to extend the current rate schedules to complete this analysis. On the Deputy Secretary of Energy's approval, Rate Order No. WAPA-75, as extended, will be further extended under Rate Order No. WAPA-131.

Order

In view of the above and under the authority delegated to me, I hereby extend for a period effective from October 1, 2006, through September 30, 2008, the existing Firm Electric Service Rate Schedule PD-F6, and the Transmission Service Rate Schedules PD-FT6, PD-FCT6, and PD-NFT6.

Dated: September 22, 2006.
Clay Sell,
Deputy Secretary.

[FR Doc. E6-16161 Filed 9-29-06; 8:45 am]

BILLING CODE 6450-01-P